FEDERAL COMMUNICATIONS COMMISSION

47 CFR Part 54

[WC Docket Nos. 10-90, 23-328, 16-271, 14-58, 09-197; WT Docket No. 10-208; FCC 24-116; FR ID 264716]

Connect America Fund, Alaska Connect Fund, Connect America Fund—Alaska Plan, ETC Annual Reports and Certifications, Telecommunications Carriers Eligible To Receive Universal Service Support, Universal Service Reform—Mobility Fund

AGENCY: Federal Communications Commission.

ACTION: Proposed rule.

SUMMARY: In this document, the Federal Communications Commission (FCC or Commission) adopted a Further Notice of Proposed Rulemaking (FNPRM) that seeks comment on the implementation of the Alaska Connect Fund (ACF) for mobile service from the period January 1, 2030 through December 31, 2034 for areas where more than one mobile provider had been receiving support for overlapping service areas, or duplicate-support areas (ACF Mobile Phase II). This includes comment on the methodology to determine support amounts in duplicate-support areas and the competitive or alternative mechanism to distribute support, which would result in support to a single mobile provider in duplicate-support areas after ACF Mobile Phase I (mobile support provided from January 1, 2027 to December 31, 2029) ends. The Commission also seeks comment on how to distribute support in unserved areas, Tribal consent requirements for the ACF, and other additional issues that would impact the ACF.

DATES: Comments are due on or before February 3, 2025, and reply comments are due on or before March 4, 2025.

ADDRESSES: You may submit comments, identified by WC Docket Nos. 10-90, 23-328, 16-271, 14-58, 09-197 or WT Docket No. 10-208 by any of the following methods:

• Electronic Filers: Comments may be filed electronically using the internet by accessing the Electronic Comment Filing System (ECFS): https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

People with Disabilities. To request materials in accessible formats for people with disabilities (braille, large print, electronic files, audio format), send an email to fcc504@fcc.gov or call the Consumer & Governmental Affairs Bureau at 202-418-0530 (voice), 202-418-0432 (tty).

FOR FURTHER INFORMATION CONTACT: For further information, please contact, Matt Warner, Competition and Infrastructure Policy Division, Wireless Telecommunications Bureau, at Matthew.Warner@fcc.gov or (202) 418-2419.

SUPPLEMENTARY INFORMATION: This is a summary of the Commission's FNPRM in WC Docket Nos. 10-90, 23-328, 16-271, 14-58, 09-197 and WT Docket No. 10-208; FCC 24-116, adopted on November 1, 2024 and released on November 4, 2024. The full text of this document is available at the following internet address: https://www.fcc.gov/document/fcc-adopts-alaska-connect-fund-further-address-broadband-needs. The Commission also concurrently adopted a Report and Order (Order) that takes important and necessary steps to ensure continued support for the advancement of modern mobile and fixed broadband service in Alaska.

Filing Requirements. Pursuant to §§ 1.415 and 1.419 of the Commission's rules, 47 CFR 1.415, 1.419, interested parties may file comments and reply comments on or before the dates indicated in this document. Comments may be filed using the Commission's ECFS or by paper. All filings must be addressed to the Commission's Secretary, Office of the Secretary, Federal Communications Commission.

Ex Parte Rules. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with Rule 1.1206(b), 47 CFR 1.1206(b). Participants in this proceeding should familiarize themselves with the Commission's ex parte rules.

Providing Accountability Through Transparency Act. Consistent with the Providing Accountability Through Transparency Act, Public Law 118-9, a summary of the FNPRM is available on https://www.fcc.gov/proposed-rulemakings.

Synopsis

I. Further Notice of Proposed Rulemaking

In this FNPRM, the Commission seeks comment on a number of issues related to the implementation of the ACF.

As an initial matter, for ACF Mobile Phase II, the Commission seeks comment on a methodology to determine a support amount for areas where more than one mobile provider had been receiving support for overlapping service areas. This mechanism may also be used to determine support amounts to claw back for areas that the Commission deems ineligible for mobile support in the concurrently adopted Report and Order (Order) in the event that support is not shifted to a comparable area.

Additionally, the Commission seeks comment on ACF Mobile Phase II service requirements, as well as how to eliminate duplicative support in ACF Mobile Phase II so that only one provider would continue to receive funding in duplicate-support areas. First, the Commission seeks comment on a competitive mechanism for awarding support to one provider in duplicate-support areas. Second, the Commission seeks comment on an alternative mechanism to address duplicate-support areas that would designate one provider that would continue receiving support in the same area, and would allow other providers to choose different areas to serve to continue receiving the previous support levels.

In addition, the Commission seeks to update the record on how best to deploy mobile service to areas that remain unserved with the $162 million from the Alaska Plan that has been reallocated toward this purpose. Further, the Commission seeks comment on conducting a reverse auction to award support to competitive Eligible Telecommunication Carriers (ETCs) to deploy advanced communications networks in these areas.

The Commission seeks comment on additional issues for implementation of the mobile portion of the ACF, for both the two support-area plan established in the concurrently adopted Order and the ACF Mobile Phase II as described in this document. The Commission seeks comment on retail consumer conditions, including seeking comment on a proposal to impose a minimum subscriber requirement for ACF mobile participants, as well as seeking comment on marketing on Tribal lands. The Commission also seeks further comment on offering incentives to deploy networks with Open Radio Access Network (Open RAN). Finally, the Commission seeks further comment on Tribal consent under both the mobile and fixed portions of the ACF.

The Commission seeks comment on how to determine support amounts by area for purposes of the mobile portion of the ACF—for example, to determine the support amounts for duplicate-support areas and single-support areas, as well as previously supported areas that are no longer eligible. In the Alaska Plan, providers were awarded funding based on statewide commitments. Because the Commission adopts an area-based approach for the mobile portion of the ACF, it must establish a way to disaggregate total support across smaller geographic areas. Specifically, in order to address issues involving providers serving areas that are ineligible in the ACF but were eligible in the Alaska Plan (e.g., areas which have an unsubsidized provider of 5G-NR at 7/1 Mbps in an outdoor stationary environment or three or more mobile providers offering at least 4G LTE at 5/1 Mbps in an outdoor stationary environment—with at least one of those providers being unsubsidized—based on Broadband Data Collection (BDC) coverage data as of December 31, 2024), the Commission must calculate how much support has been allocated to these ineligible areas. In the Alaska Connect Fund Notice, 88 FR 80238, November 17, 2023, the Commission asked if duplicate funds could be redistributed “by calculating the support that eligible providers are receiving per hexagon across all of that provider's service areas and subtracting the support that the provider receives per hexagon in a particular service area?” As no commenters directly addressed this question, the Commission seeks comment on the methodology in the following to calculate Alaska Plan support in specific areas, at the hex-9 level.

Because mobile providers have statewide buildout requirements under the Alaska Plan, calculating a provider's rate of support in any given area is particularly complicated, since providers that receive support to cover multiple areas are not required to spend that money in any particular area. A provider's average rate of support over all areas is likely not to reflect the amount of support it uses to cover any particular area. However, the average support rate for a provider that receives support for a more targeted area is more likely to reflect the amount of support that the provider needs to cover that area. Based on that assumption, the Commission seeks comment on whether to iterate through the Alaska Plan participants, from smallest footprint to largest, using the smaller providers' support as proxies for the support for larger providers in areas where they overlap.

To provide a detailed example of the information in this document, the Commission would first consider the support of the provider covering the fewest number of hex-9s located in Alaska Plan eligible census blocks (Provider A). Specifically, the Commission would divide Provider A's annual support by the total number of hex-9s that the provider covers in Alaska Plan eligible census blocks to calculate an average value for each covered hex-9. A hex-9 would be considered covered by a provider if 70% of the grandchild hex-11s were covered at the centroid, using the union of December 2024 BDC mobile broadband and mobile voice coverage for that provider. For example, if Provider A receives $100,000 in annual support and covers 1,000 hex-9s in Alaska Plan eligible blocks, each such hex-9 it covers would be said to receive $100 in annual support.

The Commission would then evaluate the support of the provider covering the second fewest hex-9s in Alaska Plan eligible census blocks (Provider B). The Commission would first determine if Provider B covered any of the same hex-9s as Provider A. If so, the value of those hex-9s would be the same as for Provider A; in this example, $100 per hex-9. The Commission would subtract the funding of these duplicate hex-9s from Provider B's total annual support, and divide the remaining annual support by the remaining covered hex-9s to calculate the funding for each hex-9 that is not duplicated by Provider A. To continue the example, suppose Provider B receives $150,000 in annual support and covers 2,500 hex-9s in Alaska Plan eligible blocks, and that 500 of these hex-9s are also covered by Provider A. In this case, the Commission would say that 500 of its hex-9s would each be assigned a value of $100, for a total of $50,000. The Commission would then calculate that the remaining $100,000 of support spread across the remaining 2,000 hex-9s results in each non-duplicate hex-9 receiving $50 of support. Alternatively, if there were no overlap between Providers A and B, the calculation for Provider B would follow the same process as Provider A, distributing $150,000 across the 2,500 hex-9s, resulting in each hex-9 covered by Provider B receiving $60 of support.

This process would be repeated with the provider covering the next largest area, or Provider C, such that its hex-9s that overlap with Provider A would be valued the same as for Provider A ($100 in the above example), the hex-9s that overlap with Provider B would be valued the same as for Provider B ($50 in the above example), and the remaining hex-9s as the average of the remaining support. (Note that if Providers A, B, and C all overlap in some hex-9s, the value would be at Provider A's average, or $100 in this example). The process would then iterate through the remaining providers, smallest to largest in terms of covered hex-9s in eligible Alaska Plan blocks, until a value has been assigned for every covered hex-9. Note that it would theoretically be possible for the largest of the eight Alaska Plan providers to have hex-9s valued at each of the smaller seven provider's averages, and then have its own average for its remaining hex-9s.

Further, the Commission would also use these values to determine the amount of ACF support at stake in areas no longer eligible in the ACF. Continuing the example in this document, if 100 of Provider B's non-duplicate hex-9s were no longer eligible, the value of those hex-9s would be $5,000. If Provider B were not able to commit to cover comparable hex-9s in its performance plan, its annual ACF support would be reduced by $5,000. Similarly, if the 100 ineligible hex-9s were covered by both Providers A and B, the value of each hex-9 would be $100, and the at-stake ACF support would be $10,000 for each provider.

The Commission seeks comment on the methodology in this document. Should hex-9s covered by more than one provider have the same value to each provider, or should the Commission adopt a different method that allows for heterogenous support levels for such hex-9s? Should the Commission instead apportion support based on another metric, such as covered BSLs or population? Should hex-9s within the same geographic area, such as a census tract or borough, all be assigned the same value, regardless of whether or not a given hex-9 is covered by more than one provider?

The Commission also seeks comment on whether to use this methodology to determine support amounts by area for use in a competitive—or alternative—mechanism for addressing duplicate support in ACF Mobile Phase II. The Commission seeks comment on whether this would be an effective methodology for determining duplicate support amounts. Additionally, the Commission seeks comment on the effectiveness of this methodology to calculate the amount of support to be clawed back in the event that a provider serving areas deemed ineligible for ACF, as set forth in the concurrently adopted Order, is not able to—or chooses not to—serve comparable areas. Further, the Commission asks whether it should use this or a similar hex-9-based methodology to calculate the value of ACF Phase I commitments. Are there other uses for this methodology in the mobile portion of the ACF? Finally, if commenters have concern about this methodology, the Commission seeks comment on alternative methodologies to calculate support amounts for these particular areas. The Commission seeks comment generally regarding how to determine the support amounts per area.

The Commission seeks comment on the level of service that it should expect from mobile providers that receive support under ACF Mobile Phase II of the ACF. Since the adoption of the Alaska Plan Order, 81 FR 69696, October 7, 2016, mobile wireless technologies have advanced significantly, and the Commission has moved toward supporting 5G-NR as the standard for high-cost mobile-wireless deployment. Despite this, the current Alaska Plan still supports 2G, 3G, and 4G LTE networks. While the Commission recognizes that Alaska presents unique challenges when deploying mobile networks, it also must recognize the advances in mobile wireless technologies that have been made since the adoption of the Alaska Plan; therefore the Commission tentatively concludes that continuing to fund such obsolete technologies would be both inefficient and contrary to the Commission's statutory mandate that consumers in rural and high-cost areas “should have access to” advanced communications “that are reasonably comparable to those services provided in urban areas.” As such, for ACF Mobile Phase II, the Commission seeks comment on whether to set a goal of 5G-NR 7/1 Mbps or whether to make this a requirement of ACF Mobile Phase II. Given that 4G LTE at 5/1 Mbps is already available in many parts of Alaska, particularly in areas with duplicate support, the Commission believes that this service level is achievable, and it seeks comment on this. However, the Commission provides a preference for higher deployment speeds when selecting winners in the competitive mechanisms, and therefore it expects that providers will be incentivized to offer 5G-NR 35/3 Mbps services in areas where it is technically and financially feasible. The Commission seeks comment on this approach. Alternatively, should the Commission make 5G-NR 35/3 Mbps the technology and speed goal (consistent with its approach for single-support areas by 2034, as in the concurrently adopted Order)? Should the Commission make this a requirement?

Additionally, if the Commission were to adopt a 5G-NR goal or minimum standard, should there be areas where providers are allowed to meet a lesser speed standard? For example, should areas with high middle-mile costs be required to deploy 5G-NR but only be required to meet a lower speed threshold, and if so, how would the Commission determine areas with high transport costs? Should the goal or minimum service requirements be lower for providers seeking to deploy in unserved areas? In the alternative, should the Commission continue to fund 4G LTE networks, and if so, under what conditions? If the Commission adopts 5G-NR 7/1 Mbps as the goal or minimum performance standard, how much time should it give carriers to upgrade their networks to meet this new standard? Should the adopted service goal or minimum deployment standard evolve over time to a higher standard so that it does not become outdated?

The Commission seeks comment on the appropriate mechanism to eliminate duplicate support in the mobile portion of the ACF. It is generally not the policy of the Universal Service Fund (USF) to subsidize competition in high-cost areas. Therefore, in the high-cost program, the Commission has sought to eliminate duplicate support—the provision of support to more than one competitive ETC in the same area. In the Alaska Connect Fund Notice, the Commission expressed concern that many areas were receiving duplicate support under the Alaska Plan. To address the issue of duplicate support, in this document, the Commission seeks comment on whether to adopt a competitive mechanism to decide which competitive ETC should be awarded the support for a given geographic area based on which provider proposes the best combination of coverage and service offerings for each community. Under this proposal, providers seeking to be chosen as the provider for a given community will submit proposed coverage maps for the areas where more than one provider currently receives support, as well as the surrounding community where no provider currently offers service (i.e., unserved hex-9s within a larger geography that contains the duplicate support hex-9s). Based on these coverage map offers, the competitive mechanism would then determine which competitive ETC to support based on which provider proposes to deploy the 5G network with the best combination of speed and coverage to the duplicate-support areas and surrounding unserved areas. The Commission seeks comment on this approach.

As discussed in the concurrently adopted Order, in ACF Mobile Phase I, the Commission limits support to mobile ETCs that participated in the Alaska Plan, subject to other eligibility requirements. However, for ACF Mobile Phase II, in order to maximize competition in the competitive mechanism, the Commission seeks comment on whether to permit any competitive ETC, including competitive ETCs that do not already receive support for mobile service in remote Alaska, to be eligible to participate. The Commission believes that this approach would encourage new mobile providers to emerge in Alaska, including those that are not currently ETCs or that were not eligible for the Alaska Plan. The Commission sees no reason why a mobile provider that meets all other criteria to participate in a competitive process should be deemed ineligible solely because it is not currently receiving Alaska Plan support. The Commission tentatively concludes that this approach will stretch its scarce universal service dollars further and result in better service for Alaskans, and it seeks comment on this tentative conclusion. The Commission seeks comment on whether these are the appropriate eligibility criteria and whether any additional factors should be considered.

As mentioned in this document, several current participants in the Alaska Plan have failed to meet their commitments. In the concurrently adopted Order, the Commission determined that an Alaska Plan mobile provider participant may have its ACF support delayed, reduced, or may be deemed ineligible from the ACF, if the Wireless Telecommunications Bureau (WTB) determines that the provider has failed to comply with the public interest obligations or other terms and conditions of the Alaska Plan or its Alaska Plan commitments, or failed to meet a build-out milestone. This determination—and delegation to WTB—extends to eligibility to participate in the mechanisms the Commission discusses in this document. In short, Alaska Plan providers that have been deemed ineligible for ACF will be ineligible for ACF Mobile Phase II support. The Commission seeks comment on this approach. Should there be a process by which an ineligible provider under these criteria could be once again deemed eligible?

As discussed in the concurrently adopted Order, the Commission will determine whether an area is ineligible, a duplicate-support area, a single-support area, or unserved at the hex-9 level. The Commission seeks comment on whether only eligible duplicate support and unserved hex-9s should be eligible for support in the competitive mechanism. Under this proposal, single support hex-9s and ineligible hex-9s will both be ineligible for support in the competitive mechanism. The Commission also seeks comment on whether to aggregate eligible hex-9s into census tracts as the minimum geographic unit for which it will accept competing offers. Should the Commission use an alternative Census geography for accepting competing offers? Alternatively, should eligible hex-9s be aggregated into a lower resolution (larger) hexagon such as a hex-7? The Commission seeks comment on these proposals.

Based on the previously discussed methodology for determining the amount of support associated with each hex-9, the Commission seeks comment on whether to establish a budget for each census tract with duplicate support areas as follows. After determining the support for each duplicate support hex-9, based on the disaggregation of statewide support methodology the Commission adopts, it seeks comment on whether to establish a total duplicate support amount for each census tract with duplicate support areas that is equal to the sum, over all duplicate support hex-9s, of the calculated support amount for each duplicate support hex-9. If the duplicate support amount associated with each hex-9 is different by provider based on the adopted disaggregation methodology, the Commission seeks comment on whether the total support amount associated with a tract with duplicate support areas should be equal to the sum of the maximum amounts of duplicate support any provider receives for the eligible duplicate support hex-9s. In this case, the Commission seeks comment on whether to use the sum of these maximum amounts so that it ensures support is sufficient to maintain the existing available coverage within the duplicate support areas. Would this approach provide sufficient support to, at a minimum, maintain existing coverage? Would this level of support allow the awarded provider to enhance its coverage within the supported hex-9s to provide 5G-NR services? Would an alternative budget such as the total support associated with all supported providers in the duplicate support areas be a more appropriate amount, and if so, why?

For each census tract with duplicate support areas, the Commission seek comment on whether an eligible ETC could submit a proposal to be the sole recipient of the duplicate support amount for the census tract. Under this approach, a competitive ETC's proposal would consist of a proposed coverage map for a census tract that complies with the BDC mobile coverage data requirements and must predict 5G-NR coverage in an outdoor stationary environment. The Commission seeks comment on whether eligible ETCs may propose to cover a subset of the eligible areas within a tract with 5G-NR 7/1 Mbps service or 5G-NR 35/3 Mbps service, and that they would be required to submit separate coverage maps for each proposed service. The Commission seeks comment on these proposals. In order to ensure that coverage map proposals are comparable, should the Commission set uniform propagation model parameters for all submitted coverage maps? Alternatively, could an eligible ETC's bid be more general within a biddable area, such that it promises to deploy to a certain number of hex-9s with a specified level of service, but does not specify exactly which hex-9s?

For each census tract receiving coverage offers, the Commission seeks comment on whether to evaluate the proposals and determine a single winner for each area based on a combination of the scope of proposed geographic coverage and service levels to the eligible areas within the tract, as determined by submitted coverage maps. The Commission seeks comment on this approach. Specifically, based on the coverage maps submitted, the Commission seeks comment on whether it should calculate a weighted percent coverage of the eligible hex-9s in the census tract for each proposal received and award the entire duplicate support amount for the tract to the ETC that proposes the highest weighted percent coverage of eligible hex-9s. In this calculation, hex-9s would receive different weights depending on whether they would be covered with 7/1 Mbps or 35/3 Mbps 5G-NR service under a proposal. For the weights, the Commission seeks comment on whether 35/3 Mbps 5G-NR service should receive a weight equal to 1 and 7/1 Mbps 5G-NR service should receive a weight equal to .9 when calculating the weighted coverage percentage used to evaluate competing proposals.

For example, suppose that there are ten hex-9s in a tract with a total land area of approximately 1 square mile—eight eligible hex-9s and two ineligible hex-9s, one of which is served at 5G-NR at 7/1 Mbps minimum speed by an unsubsidized provider and one of which is a single support area. Suppose that two ETCs submit coverage maps for this tract and the first ETC proposes to serve 2 of the eligible hex-9s at 5G-NR 35/3 Mbps minimum speed service, and 3 of the eligible hex-9s at 5G-NR at 7/1 Mbps minimum speed service. In this case, under the weighting scheme, the weighted coverage percentage for this offer would be approximately equal to 47%. Further suppose that the second ETC proposes to serve 6 eligible hex-9s with 5G-NR at 7/1 Mbps minimum speed. The approximate score for this second proposal would be 54%, and therefore, this second ETC would be the winner of the budget assigned to this tract in the competitive mechanism.

Minimum Acceptable Offers. The Commission also seeks comment on the minimum acceptable weighted coverage percentage for an offer and whether it should be the weighted coverage percentage that would be implied by the current combined service areas of all the supported ETCs in the eligible hex-9s assuming 5G-NR 7/1 Mbps service in the hex-9s where such services are currently unavailable, and the actual 5G-NR deployed service in hex-9s where 5G-NR 7/1 Mbps or 35/3 Mbps services are deployed. For example, in the previous example, if two eligible hex-9s had 4G LTE 5/1 Mbps service, one had 5G-NR 7/1 Mbps and one had 5G-NR 35/3 Mbps, then the minimum acceptable coverage percentage for an offer would be approximately 37%. The Commission seeks comment on whether, if a provider submits an offer below the minimum coverage percentage or any other minimum criteria the Commission establishes, WTB should notify the provider and provide one opportunity for the provider to correct its bid. After this process, offers that remain below this minimum coverage percentage would be rejected. The Commission seeks comment on this approach.

Tie Breaker. Finally, in the event that more than one proposal should tie when calculating the highest weighted coverage percentage, the Commission seeks comment on what procedure should be used to break such a tie. Should the provider with the current highest weighted coverage percentage be awarded the support given that this provider has demonstrated a willingness and ability to serve the broader community with the most advanced mobile wireless services? Should the tie be broken at random? Should offers also include the lowest support amount below the available budget that the provider would be willing to accept in order to deploy the proposed service and, only in the case of ties for highest weighted coverage percentage, the provider with the lowest support amount would win and receive the support amount requested? To the extent a provider already receives support in the ACF, should the Commission consider the progress carriers have made in their single-support areas as indicated in the December 31, 2029 progress reports?

The Commission seeks comment on these proposals for accepting and evaluating competing offers in order to resolve duplicate support. Should the scoring of offers include other criteria besides proposed geographic coverage and service levels? For example, should the number of covered BSLs and road miles be explicitly included in the scoring formula? Are the weights the Commission seeks comment on for the two service levels appropriate? Should more weight be given to 5G-NR 35/3 Mbps service? Should other service levels be considered? Should providers be allowed to submit multiple offers that include a minimum support amount the provider would be willing to accept to deploy the proposed service level of the offer, and if so, how should the Commission trade off coverage and requested support when determining winners? Should the minimum coverage percentage in a census tract instead be set at the highest weighted coverage percentage of any single provider in the duplicate-support area under a minimum 5G-NR 7/1 Mbps service level assumption? Should the Commission also impose a minimum acceptable criterion on offers that all areas that currently have service (e.g., a hex-9) would need to still have service under any proposal that it would accept as a valid proposal? Instead of only evaluating offers based on the eligible duplicate support and unserved areas within a tract, should the Commission also include ineligible single support areas within the tract when calculating the score in order to ensure that service is maintained to these areas? The Commission seeks comment on these questions and on any modifications that should be made to the methodology for evaluating competing offers and determining winners.

Support Phase-Down. The Commission seeks comment on whether providers that are not chosen as the sole recipient of the duplicate-support amount within a tract should have their support phased down over two years. Specifically, the Commission seeks comment on whether losing providers should receive two-thirds of their support for the first twelve months following the announcement of winners, one-third of their support for the next twelve months, and zero support for the tract thereafter. The Commission seeks comment on this approach and any alternatives. Is a phase-down of support appropriate? Is two years a sufficient length of time for the phase-down?

The Commission also seeks comment on an alternative mechanism that would assign support to only a single provider if an eligible area is covered by two or more Alaska Plan mobile provider participants. At a high level, this approach would take into consideration the existing coverage of each supported provider within a potentially larger area that includes the duplicate-support area—balancing various factors—and award support for the duplicate-support area to the provider that demonstrates the “best” coverage. Unlike the competitive mechanism, this approach would look at past service deployments rather than evaluating offers for future service deployments. For a currently supported provider that is not selected to continue receiving support for an area under the alternative mechanism, the Commission would make available an option to negotiate a revised plan with WTB that would allow it to continue to receive the same or similar level of support in exchange for serving different, but comparable, currently unserved areas. The Commission seeks comment on various aspects of this approach.

Evaluation Areas. In the concurrently adopted Order, the Commission defines duplicate-support areas as eligible areas covered by two or more Alaska Plan participants. For this alternative mechanism, the Commission seeks comment on criteria for deeming a potentially larger and more standardized area as the basis for evaluating the service provided by each of multiple supported carriers and selecting a single carrier to receive support for the eligible duplicate-support hex-9s within that area. Specifically, the Commission would consider a census tract as the evaluation area, and it seeks comment on whether census tracts would be large enough to provide sufficient scale for the selected provider but not so large as to create overlaps with areas where other providers may be receiving duplicate support. Would census blocks be a more reasonable size as evaluation areas? Alternatively, should the evaluation area be constructed based on the particular duplicate support situation, such as an aggregation of smaller adjacent census geographies, such as blocks? The Commission seeks comment on these options and generally on the criteria to be considered when determining an evaluation area that includes the hex-9s deemed to have duplicate support and the adjacent coverage areas of the supported providers.

Evaluating Mobile Technology. The Commission also seeks comment on how to evaluate a subsidized provider's service in a covered hex-9 with respect to mobile technology. For example, should the Commission differentiate among four categories of service in a hex-9: 2G and 3G service; 4G-LTE; 5G- NR at 7/1 Mbps; and 5G-NR at 35/3 Mbps or better? If the component hex-11s in a hex-9 indicate service of different mobile technologies, should the Commission deem the hex-9 as covered by the most frequently indicated technology in the covered hex-11s, or in the case of an equal split between mobile technologies, of the more advanced technology offered by the provider? Should the Commission instead not differentiate between mobile technologies in evaluating coverage, and consider an area either served or not? Alternatively, should the Commission differentiate among fewer than four mobile technologies, and if so, what should they be? Should the Commission use a different method to assign a technology to a hex-9 when the component hex-11s show different mobile technologies?

The Commission seeks comment on whether and, if so, how to weight differently the hex-9s in an evaluation area that are deemed to show coverage by different technologies. For example, if half of the hex-9s in a provider's footprint in an area show coverage at 3G speeds, and the other half receive 4G LTE service, should the Commission weight the 4G-LTE areas more heavily when evaluating the overall coverage of a supported provider? For this purpose, the Commission suggests weighting 2G and 3G service as .75, 4G LTE service at 1, 5G-NR at 7/1 Mbps at 1.15; and 5G-NR at 35/3 Mbps and higher speeds of service at 1.25. These weights would essentially use 4G LTE service as a benchmark, with slower service carrying less weight while faster service would count more heavily in the evaluation of a provider's existing coverage. If commenters disagree with this approach or with the suggested weights, the Commission asks that they suggest a different approach or different weights and explain why they believe their alternative approach is preferable. As an additional weight, should the Commission evaluate progress of upgraded deployments demonstrated in the December 31, 2029 progress reports for single-support areas, and if so, how should it do so?

Superior Coverage Calculation. In order to compare two or more supported providers that serve an area, this approach—on which the Commission seeks comment—would consider their technology-weighted service performance and the geographic extent of their footprint. The Commission would, for each provider, determine an area-specific score calculated as the sum of the weighted hex-9s that they serve. As a simple example, a provider that serves 1000 hex-9s in an evaluation area at 3G speeds would have a score of 1000*.75, or 750. Another provider that serves 800 hex-9s in the evaluation area with 4G-LTE would have a score of 800. The Commission suggests these two criteria—coverage within the geographic evaluation area and technology—because they provide for a simple, measurable, and transparent method for comparing coverage that captures essential components of a provider's service offering. How should the Commission select a single provider if two or more providers cover 100% of the evaluation area at the same technology, or otherwise have a tied score? Should the Commission then look to a broader area to evaluate the providers' coverage, such as the census block group, census tract level, or an alternate geographic area?

The Commission is mindful, however, that there are other aspects of a supported provider's performance that also matter to consumers. Should other factors, such as price or reliability, be considered in a supported provider's score? Would it be feasible to find standardized, measurable, and transparent ways to incorporate these or other factors? Would consideration of any such factors contribute significantly to the fairness of the comparison across duplicate supported providers? Will the requirements in ACF Mobile Phase I serve to ensure that a provider receiving support as of the start of ACF Mobile Phase II already meets basic price and/or reliability (or other) criteria, mitigating any need to incorporate the criteria explicitly into the scoring approach? The Commission seeks comment on these aspects of the approach.

Under this approach, the provider with the highest score in the evaluation area would be selected to continue to receive support for the previously duplicate support area. The Commission would calculate the support amount as set forth in this document, where generally support for a provider would be based on the support rate of the provider with the smaller footprint. Under this approach, the single winner of support for hex-9s that it and another provider both previously covered would receive a support amount based on the number of previous duplicate support hex-9s in the evaluation area. Its support amount for areas within the evaluation area for which it was a single-supported provider—for which it has guaranteed support through December 31, 2034—would not be affected. That is, the winning provider would receive support at a new rate for the previous duplicate support areas and continue to receive support at its existing rate for any hex-9s for which it has been receiving support as a single provider.

Alternative Evaluation Criteria. Rather than evaluate a provider's current performance based on the extent of coverage within the geographic evaluation area and the technology and speed that it offers, the Commission seeks comment on alternative means of evaluation that would select a single supported provider based solely on which of the duplicate support recipients offers service to the largest number of hex-9s within the evaluation area. The Commission seeks comment on this and other possible approaches that are consistent with the actions of the concurrently adopted Order.

Performance Requirements. Once selected as the winning provider for the evaluation area, the Commission would require that the provider meet the minimum standard of deployment for support under ACF Mobile Phase II of 5G-NR 7/1 Mbps measured in an outdoor stationary environment.

Loss of Support. Under this approach, on which the Commission seeks comment, providers that lose their support in a duplicate-support area would be subject to phase down of support. Providers would lose support subject to a phase down schedule of 2/3 support for the first twelve months, 1/3 support for the next twelve months, and zero support thereafter. In the alternative, the Commission seeks comment on allowing providers that lose duplicate support to deploy to comparable unserved hex-9s in other areas of Alaska. Under this approach, providers that have their performance plans approved by providing comparable service to hex-9s in an uncovered location would have their lost support resume from the date that the performance plan is approved. The Commission seeks comment on this approach. Should there be any differences in the loss of support approach depending on how the provider loses support between the competitive and alternative mechanism?

In the Alaska Plan Order, 81 FR 69696, October 7, 2016, the Commission reallocated funds going to support the provision of mobile service in unserved remote areas in Alaska and decided to distribute those reallocated funds through a reverse auction process. In the Alaska Plan Order, unserved areas were defined as “those census blocks where less than 15% of the population within the census block was within any mobile carrier's coverage area.” By December 31, 2026, that allocation will amount to $162 million. The Commission provided that support for unserved areas would be distributed through a reverse auction process, subject to the competitive bidding rules codified at Part 1 Subpart AA of the Commission's rules. The Alaska Plan Order stated that “[a]ny competitive ETC, including competitive ETCs that do not otherwise receive support for mobile service in remote Alaska, may bid in the auction to receive annual support through the remainder of the Plan term to extend service to areas that do not have commercial mobile radio service as of December 31, 2014.” The Commission wishes to refresh the record on this approach and update the definition of unserved areas. The Commission seeks comment on a potential auction mechanism for assigning support to provide service in areas that are currently unserved by any provider. The Commission first addresses several high-level program elements and then describe a reverse auction mechanism, which would use competitive bidding to determine how best to apportion the available budget to maximize new service to Alaskans in places where they live, work, and travel that have heretofore been ignored. The auction mechanism on which the Commission seeks comment would leverage competition across areas to determine the areas that will receive support through the auction and, in areas where more than one bidder is competing, the auction would additionally leverage competition between bidders to determine a single winner of support.

The Commission seeks comment on continuing with the prior decision to open up the unserved areas auction to any competitive ETC certified in Alaska at the commencement of the auction, including competitive ETCs that do not already receive support for mobile service in remote Alaska. The Commission suggests this broad eligibility requirement in order to attract a wide pool of potential service providers, recognizing that the technical and business approaches consistent with providing service to areas that have remained unserved may require expertise and technology different than that of the carriers that traditionally have provided service in Alaska. In addition, the potential availability of new middle-mile capacity may make it feasible for new entities to enter the market in these (and potentially other) eligible areas.

The Commission seeks comment on a term of support of eight years, which is the same period of time that mobile providers will receive support in single-support areas. This will allow time for mobile-support recipients to buildout and maintain a communications network for remote communities and reassess any ongoing support needs to these areas. After that eight-year period, the Commission would reassess any ongoing support needs.

The Commission also seeks comment on the public-interest obligations that a winning bidder will have in exchange for receiving ACF support for serving a previously unserved area. For example, the Commission would require the winning provider to offer 5G-NR service at 7/1 Mbps to at least 85% of the eligible unserved hex-9s in the area by December 31, 2034. The Commission seeks comment on these standards with respect to technology and speed, geographic coverage, and timing. Should the Commission instead establish performance obligations in stages, for example, requiring less geographic coverage at a 2- or 3-year benchmark, more coverage at 5 years, with full coverage required by year 6, or other staged requirements? Should the Commission require a greater or lower technology and speed, or allow a mix of such? Should obligations vary according to the type of service to be provided, such as requiring greater coverage if provided by satellite, or less coverage depending upon access to middle-mile?

The Alaska Plan Order defined an unserved area as “[a] census block [ ] where less than 15% of the population within the census block was within any mobile carrier's coverage area,” as of December 31, 2014. The Commission finds this definition to be out of date. The Commission seeks comment on an alternative approach whereby it would first determine an area's eligibility at the hex-9 level, rather than at the census-block level, consistent with the concurrently adopted Order regarding areas receiving support. In order to determine that a hex-9 is unserved for purposes of the auction, BDC data would have to indicate that no carrier provides mobile data service as shown at the centroids of 70% of the component hex-11s that comprise the hex-9. The Commission would also determine whether an area includes at least one BSL (as defined by the Fabric) for the hex-9. If a hex-9 is deemed uncovered, contains at least one BSL and is otherwise eligible for ACF support, then the hex-9 would be deemed unserved.

However, because hex-9s are very small relative to the size of mobile deployment areas, the Commission intends that participants in a reverse auction would bid at the level of a larger geographic area, such as a census block, census block group, or census tract. For the larger geographic area to be considered unserved, the Commission would require that 85% of the eligible hex-9s in the larger geographic area be deemed unserved. The Commission seeks comment on the use of census block, census block group, or census tract as the biddable area for the auction. Is there another well-defined geographic area that would be more appropriate for an auction to assign support to currently unserved areas in Alaska? Would a larger hexagonal area in the H3 system, such as a hex-5 (approximately 253 sq. kms) or hex-6 (approximately 36 sq. kms.) be preferred? Biddable areas based on a larger H3 system hexagon would be of a more uniform size than census tracts or blocks. Would potential bidders consider that an advantage? Is it important that the geographic areas used in this reverse auction be the same as those used for any support mechanism for areas that are currently served by at least one subsidized provider? Are there any classes of hex-9s without at least one BSL that should be considered eligible for support if uncovered?

Second, the Commission seeks comment on whether there is a minimum speed or technology level above which a hex-9 would be deemed served. In the 5G Fund Second Report and Order, an area is eligible if there is not an unsubsidized 5G provider of 7/1 Mbps service in an outdoor stationary environment; however, the 5G Fund Second Report and Order's goal is to bring 5G to areas without 5G, instead of bringing 5G to unserved areas. Given that the Alaska Plan's goal was to get to 4G LTE, the Commission thinks a number of otherwise served areas will be defined as unserved if it uses the threshold from the 5G Fund Second Report and Order. Rather, the Commission suggests that eligible areas with no service, not even voice service, will be deemed unserved for the unserved areas auction in Alaska. The Commission seeks comment on the speed and technology threshold that, if unavailable, should be considered for an area to be deemed unserved.

Are there other approaches to determining eligible areas and biddable areas for the reverse auction that would allow for an accurate, transparent, and careful evaluation of an area's suitability to be considered for support through a reverse auction? Should the Commission consider criteria other than those it has laid out to determine whether an area is considered eligible for the unserved areas auction? More specifically, are there alternatives to certain elements of the means of defining eligible unserved areas that would be preferable?

In the Alaska Plan Order, the Commission reallocated funds for use in an auction for support to unserved areas. By December 31, 2026 that allocation will amount to approximately $162 million. The Commission seeks comment on whether this amount should be the maximum amount of support that can be assigned in the reverse auction. The reverse auction format that the Commission sets forth would assign support so as to maximize the additional coverage that can be supported with the budget. The Commission seeks comment on whether this amount will achieve the intended purpose. If commenters contend that additional support is needed, the Commission seeks comment on that amount and if there is support going to mobile wireless in Alaska that can be reallocated for unserved areas.

In the Alaska Plan Order, the Commission stated that the reverse auction will be subject to the competitive bidding rules codified at Part 1 Subpart AA of the Commission's rules. Consistent with this, under the competitive bidding approach, the Commission would use a multi-round, descending clock (reverse) auction to identify the areas that would receive support, the providers that would receive support and the amount of support that each winning bidder would be eligible to receive. The descending clock auction would consist of sequential bidding rounds according to an announced schedule providing the start time and closing time of each bidding round. The Commission would use a reverse auction format similar to that used for the Rural Digital Opportunity Fund and the Connect America Fund Phase II auctions.

Bidding and Support Metric. Under this approach, bids in the reverse auction would be accepted and winning bids would be determined based on a price per eligible hex-9. Accordingly, the price clock would be denominated in terms of dollars per eligible hex-9. Each biddable area would be associated with a number of eligible hex-9s, and support amounts would be determined by multiplying the number of eligible hex-9s in the area by the relevant price per hex-9. The opening clock price times the number of eligible hex-9s in a biddable area would indicate the highest support amount that a bidder could receive for the area. The same clock price would apply to all eligible areas.

The Commission also seeks comment on whether an alternative bidding and support metric, such as the number of BSLs in the eligible hex-9s in the biddable area, would be preferable to using the number of eligible hex-9s in the area. Under this approach, the Commission would use the number of hex-9s because hex-9s are a standard unit of area coverage (equal to .105 square kilometers) and are small enough to enable a granular evaluation of whether there are locations—indications that mobile coverage would be used—in the area. Moreover, using the number of hex-9s in a biddable area as a metric is consistent with the approach the Commission adopts in this document for ACF Mobile Phase I and also seeks comment on for other elements of the ACF.

Accepting Bids and Identifying Winning Bids. In the initial round of the auction mechanism, each bidder would indicate the biddable areas to which it is willing to provide service meeting the specified performance requirements in exchange for a support amount implied by the opening clock price. In each subsequent bidding round, the price clock would be decremented and each bidder would indicate the areas to which it is willing to provide service at the lower implied support amount.

Under this reverse auction mechanism on which the Commission seeks comment, after every bidding round, the bidding system would calculate the total requested implied support for the areas that have bids at the current clock price (counting each area with a bid only once). If this amount is greater than the budget, then the price clock would be decremented again, and another bidding round would follow. After the first bidding round in which the total requested support is equal to or less than the budget—that is, the budget “clearing round”—the bidding system would begin to assign support using a “second-price rule.” A second-price rule would ensure that each winning bidder receives a support amount for an area that is at least as great as the support amount implied by its bid price. Bidding would continue with a new bidding round at a decremented clock price for areas that receive more than one bid at the clock price in the clearing round, since at least two bidders are still competing for support to that area. Such rounds would continue until, for each such area, there is at most one bid at the clock price. The lowest bid for the area would be the winning bid, and support amounts again would be determined using a second-price rule.

The Commission seeks comment on this general approach to a multiple-round, descending clock auction to assign support to areas in Alaska that are currently deemed unserved. If the Commission moves forward with this approach, as is the typical procedure for Commission auctions, it would delegate authority to WTB and the Office of Economics and Analytics to release a further Public Notice specifying in more detail the proposed rules and procedures of an auction mechanism that follows the general format the Commission sets forth here. At that point, the Commission would seek comment on the specific elements of the reverse auction. After taking into account the submitted comments, the Commission would release another Public Notice that lays out the specific rules and procedures to be used in the auction and announces the availability of bidder education materials.

The Commission notes that the reverse auction could establish a level of support for unserved eligible areas through competition among bidders based on their assessment of the costs to deploy mobile service in these areas. Could the results of this reverse auction to assign support to unserved areas in Alaska help the Commission consider a more appropriate level of support for participants already serving existing areas in Alaska (single support areas or duplicative support areas), given that this support was initially established based on frozen costs of wireline deployment?

Noncompetitive Alternative. Is there a reason to deviate from this reverse auction approach? Are there considerations that would argue in favor of another approach, and if so, what are they and how would they affect the determinations of eligible areas?

Retail Consumer Subscribership. In the Alaska Plan, the Commission has found instances where some mobile provider participants had very few customers, and in one example, a provider claimed to have only one mobile data subscriber. In such instances, the Commission is concerned that it has been providing support in areas where subscribers are not subscribing to the services.

The Commission seeks comment on whether it should require that all ACF mobile providers receiving support must have a minimum of five mobile data subscribers per census designated place and be able to provide proof of those subscribers upon request by WTB, starting with the due date of the first milestone. For this purpose, each subscriber would be one person, not directly employed by the provider, paying the publicly advertised rate for the mobile data service. Providers unable to provide address-level data of these subscribers upon demand after December 31, 2029, may have a proportional amount of support withheld as not having effective service in the area. Providers may not take more than 14 days to satisfy any subscribership requests by WTB. Census designated places with fewer than 20 people, based on most recent census estimates, are exempt from this requirement. The Commission seeks comment on this proposal. Would this approach help guard against waste, fraud, and abuse in the mobile portion of the ACF? Would, and if so, how would this approach materially affect the goal to ensure that mobile providers are covering where Alaskans travel? How much of the census designated place would need to be covered before such a condition would be applicable?

In the Alaska Connect Fund Notice, the Commission sought comment on whether it should use the ACF to encourage the deployment of Open RAN in mobile networks, and if so how. The Commission has previously noted that networks deploying Open RAN “have the potential to address national security and other concerns that the Commission and other federal stakeholders have raised in recent years about network integrity and supply chain reliability.” In its comments, Alaska Telecom Association, the only commenter on this issue, argued that the Commission should avoid any mandates and that providers should have flexibility in deploying such network technologies in Alaska. The Commission has since concluded that it is in the public interest and serves national priorities to use universal service funds to incentivize the voluntary inclusion of Open RAN in mobile networks deployed with 5G Fund support. In the 5G Fund Second Report and Order, the Commission, recognizing the significant public interest benefits of Open RAN networks, and to encourage the voluntary inclusion of Open RAN in networks that are deployed with 5G Fund support, offered 5G Fund support recipients additional support and an extension of time to deploy networks with Open RAN technologies. The Commission seeks comment on whether it should consider similar incentives for ACF recipients deploying 5G networks. Based on what the Commission adopted in the concurrently adopted Order for single-support areas and duplicate-support areas under ACF Mobile Phase I and are proposing to adopt for ACF Mobile Phase II, should the Commission adopt similar incentives to provide additional funding and extension of build-out obligations for providers that voluntarily agree to deploy Open RAN in Alaska for all ACF mobile provider recipients?

In this document, the Commission seeks comment on whether ACF providers of mobile or fixed service must obtain the consent of the relevant Tribal government(s) for new deployments, prior to being authorized to receive support for those areas. The Tribal consent requirement is exclusively predicated on a government-to-government relationship, based on the Tribes recognized from the Tribe Act of 1994. To promote and support Tribal sovereignty and self-determination, the Commission tentatively concludes that adopting a Tribal consent requirement in ACF rules is consistent with its long-standing recognition that engagement between Tribal governments and communications providers, and the Commission recognizes particularly that early engagement is an important element to promote the successful deployment and provision of service on Tribal lands. The Commission seeks comment generally on this tentative conclusion and how it may be implemented.

In the Alaska Connect Fund Notice, the Commission reiterated its commitment to working with Tribes and Tribal leaders, and sought comment on considerations with respect to participation in the ACF by Indian Tribes, Tribal governments, and residents on Tribal lands. In recognition of the fact that engagement between Tribal nations and service providers “is vitally important to the successful deployment and provision of service,” the Commission has reaffirmed the importance of its obligation that all high-cost recipients serving Tribal lands demonstrate annually that they have meaningfully engaged with Tribal governments in their supported areas. Several commenters support additional Tribal consultation and Tribal engagement, and others argue the Commission should require Alaska high-cost recipients to obtain written authorizing resolutions from a Tribal government or Tribal entity under the Alaska Native Claims Settlement Act of 1971 (ANCSA) prior to receiving support for projects proposed to be built on Tribal lands.

In the recent 5G Fund Second Report and Order and Second Further Notice, 89 FR 76016, September 17, 2024, the Commission explored the idea of requiring a winning bidder in the 5G Fund Phase I auction to demonstrate during the long-form application process, and prior to being authorized to receive support, that it has obtained the consent of the relevant Tribal government(s) for any necessary access to deploy network facilities using its 5G Fund support on Tribal lands within the area(s) of its winning bid(s). The Commission tentatively concluded that adopting a Tribal consent requirement in its 5G Fund rules is consistent with its long-standing recognition that engagement between Tribal governments and communications providers, particularly early engagement, is an important element to promote the successful deployment and provision of service on Tribal lands. The Commission envisioned a Tribal consent requirement for the 5G Fund as a continuation of its commitment to ensuring Tribal engagement by service providers that receive high-cost universal service support and in furtherance of the Commission's Policy Statement establishing a government-to-government relationship with Tribes. Additionally, in the 5G Fund Second Report and Order and Second Further Notice, the Commission looked to the Tribal consent requirements of its Tribal Lands Bidding Credit (TLBC) as a guide and discussed including a requirement that applicants for 5G Fund support to provide service on Tribal lands submit a certification from the Tribal government(s) that it has granted any required consent.

The Commission tentatively concludes that it should require Tribal consent for deployment of new facilities for mobile providers participating in the ACF and any new deployments that may be authorized under Fixed ACFs and seeks comment on how it could implement this requirement. The Commission seeks comment on what it should consider as deployment of new facilities for Tribal consent purposes. Should the Commission use any of the existing high-cost universal service Tribal engagement requirements to develop the criteria necessary to evidence Tribal consent in order to provide more consistency and predictability for both Tribal governments and service providers? The Commission seeks comment on any other consent requirements that will help provide equitable provision of ACF support for mobile and fixed broadband service using new facilities located on Tribal lands and that would benefit Tribal communities in Alaska.

In the Alaska Connect Fund Report and Order, 89 FR 25147, April 10, 2024, supra, the Commission reminded recipients of high-cost support serving Tribal Lands that they are required to have annual discussions with Tribal governments that include feasibility and sustainability planning and compliance with applicable Tribal requirements. The Commission seeks comment on whether it should consider additional or different Tribal engagement requirements under § 54.313(a)(5) of the Commission's rules for ACF fixed and mobile support recipients.

The Commission seeks comment on how compliance with a Tribal consent requirement may be demonstrated and verified by the Commission. In the 5G Fund Second Report Order and Second Further Notice, the Commission also sought comment on whether it should include parameters similar to the those that the Commission includes for a winning bidder that is applying for a TLBC to demonstrate its compliance with any Tribal consent requirement, including a requirement for submission of a certification from the Tribal government(s) that it has granted any required Tribal consent. Such a required certification of Tribal consent could include: the signature of an official of the Tribal Government and their title; a statement that the Tribal government has not and will not enter into an exclusive contract with the applicant to preclude entry by other carriers and will not unreasonably discriminate among wireless carriers seeking to provide service on the eligible Tribal land; and a statement that the Tribal government will, as applicable, permit the applicant to locate and deploy facilities on the Tribal land consistent with ACF public interest obligations and performance requirements. Would using the TLBC certification model adequately reflect the contours of Tribal government consent in this context? Under this model, once the certifications from the applicant and the consent of the Tribal government(s) being served are received and reviewed by the Commission and determined to be consistent with the ACF rules, support may be authorized. What adjustments to this model should be made if it is used? Should a process such as the TLBC certification process be adopted? The Commission seeks comment on how it might be able to incorporate flexibility in such a process.

If the Commission does adopt a Tribal consent requirement, when should that consent be obtained for the purposes of the ACF? How would the Commission's requirement be impacted by the Broadband Equity Access and Deployment (BEAD) requirement? Would the Commission need to adopt a specific Tribal consent dispute resolution process? How could the Commission assist in the Tribal consent dispute resolution process? Did any issues arise with respect to Tribal engagement or access to Tribal lands for deployments during the course of the Alaska Plan that can be improved upon? Given Tribal sovereignty, how should the Commission address circumstances in which a Tribal government neither declines nor provides consent? What are the costs and burdens of such requirements to providers? Should different requirements be made for mobile support in Alaska versus fixed support?

In terms of who must provide consent, the Commission recognizes that the question of Tribal land management and sovereignty in Alaska is unique in many respects. All of Alaska is considered Tribal land for purposes of the universal service fund programs. Unlike the lower 48 states, Alaska's Tribal lands are not held and managed by the Bureau of Indian Affairs (BIA). Rather, its Tribal lands are held and managed by Alaska Native Regional Corporations. Twelve years after Alaska was granted statehood in 1959, the ANCSA was passed into law. ANCSA sought to address the “immediate need for a fair and just settlement of all claims by Natives and Native groups of Alaska.” ANCSA did this by extinguishing all “aboriginal titles” and divided Alaska into twelve distinct regions and for-profit corporations. Each Native Alaskan was enrolled in one of the corporations; enrollment was determined in a tiered manner using the Native's region of residency as of 1970, region of birth, or region of ancestor birth; and through this enrollment the Native Alaskan was listed as a shareholder of a corporation. In other words, much of the land claims of the Alaska Native Villages are managed by the for-profit Alaska corporations, whose shareholders are often comprised by many different federally recognized Tribes. Deployment of advanced communications services provided by the ACF will cross and cover these lands, as they did in the Alaska Plan.

Given these unique aspects of Tribal land management in Alaska, the Commission tentatively concludes that an ACF recipient seeking to deploy new facilities on Tribal lands must obtain consent from the appropriate Tribal entity. Is the appropriate Tribal entity the relevant Alaska Native Village(s) recognized by the BIA? The Commission notes that federally recognized Tribes have a government-to-government relationship with the United States and are eligible to receive certain protections, services, and benefits by virtue of their federally recognized status. While the Commission's rules with respect to Tribal eligibility in various contexts vary somewhat, they universally limit eligibility to those Tribes that are “federally-recognized.” The Commission also seeks comment regarding the role of the Alaska Native Corporations as they relate to Tribal consent requirements of it.

In addition, the Commission seeks comment on how to address the fact that many Alaska Native Villages do not have defined boundaries but are assigned into Alaska Native Village Statistical Areas (ANVSA) by the Census Bureau, and that much of Alaska lies outside these areas, which opens the possibility to multiple claims of sovereignty. In § 54.5, the Commission defines Tribal lands for the purposes of the high-cost support as including “Alaska Native regions established pursuant to the Alaska Native Claims Settlement Act (85 Stat. 688).” However, Alaska Native regions often contain many different Tribal entities, and given the size of the Alaska Native regions, several of the Tribal entities in the respective Alaska Native region may not be physically located near the deployment in a region. Should the Tribal consent process be limited to new deployments or buildouts where the facilities placement occurs within the census boundaries of an ANVSA, as this situation would clearly identify that a particular Tribal entity is directly affected by a deployment? The Commission seeks comment generally on these issues.

The Commission, as part of its continuing effort to advance digital equity for all, including people of color, persons with disabilities, persons who live in rural or Tribal areas, and others who are or have been historically underserved, marginalized, or adversely affected by persistent poverty or inequality, invites comment on any equity-related considerations, and invites comment on any benefits (if any) that may be associated with the proposals and issues discussed herein. Specifically, the Commission seeks comment on how its proposals may promote or inhibit advances in diversity, equity, inclusion, and accessibility, as well as the scope of the Commission's relevant legal authority.

II. Procedural Matters

Paperwork Reduction Act

The FNPRM contains possible new or modified information collection requirements. The Commission, as part of its continuing effort to reduce paperwork burdens, will invite the general public and the Office of Management and Budget to comment on the information collection requirements contained in this document, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

As required by the Regulatory Flexibility Act of 1980, as amended (RFA), the Commission has prepared this Initial Regulatory Flexibility Analysis (IRFA) of the possible significant economic impact on a substantial number of small entities by the policies in this document. Written public comments are requested on this IRFA. Comments must be identified as responses to the IRFA and must be filed by the deadlines for comments provided in this document. The Commission will send a copy of the FNPRM, including this IRFA, to the Chief Counsel for Advocacy of the Small Business Administration.

In the FNPRM, the Commission seeks comment on several issues pertaining to the implementation of the ACF. In doing so, the Commission continues to work towards its objectives of providing service to rural and high-cost areas of Alaska, which historically are some of the most difficult and costliest areas to serve in the country and where many residents continue to lack access to the high-quality, affordable broadband service enjoyed by other parts of our nation. Specifically, the Commission seeks comment on ACF Mobile Phase II service goals or requirements, as well as on a methodology to determine a single support amount for areas where more than one provider had been receiving support for overlapping service areas, as well as for use in determining support amounts for areas that the Commission deems ineligible in the concurrently adopted Order. Additionally, the Commission seeks comment on how to resolve duplicative funding so that only one provider would continue receiving support in the area, in particular proposing two possible mechanisms to address this issue. Further comment is also sought to update the record on how best to deploy service to unserved areas using the approximately $162 million collected from the Alaska Plan. Finally, the Commission seeks comment on additional issues, such as retail consumer conditions, Open RAN, and Tribal consent under the ACF. In further developing the record in this proceeding, the Commission relies on the experiences of carriers with operations in Alaska, many of which are small business entities, to build a record on how best to implement the ACF.

The proposed action is authorized pursuant to sections 4(i), 214, 254, 303(r), and 403 of the Communications Act of 1934, as amended, 47 U.S.C. 154(i), 201, 205, 214, 254, 303(r), 403, and §§ 1.1 and 1.421 of the Commission's rules, 47 CFR 1.1, 1.421.

Small entities potentially affected by the rules herein include Wired Telecommunications Carriers, LECs, Incumbent LECs, Competitive LECs, Interexchange Carriers (IXC's), Local Resellers, Toll Resellers, Other Toll Carriers, Prepaid Calling Card Providers, Fixed Microwave Services, Cable and Other Subscription Programming, Cable Companies and Systems (Rate Regulation), Cable System Operators (Telecom Act Standard), Radio and Television Broadcasting and Wireless Communications Equipment Manufacturing, Satellite Telecommunications, Wireless Telecommunications Carriers (except Satellite), All Other Telecommunications, Wired Broadband internet Access Service Providers (Wired ISPs), Wireless Broadband internet Access Service Providers (Wireless ISPs or WISPs), internet Service Providers (Non-Broadband), and All Other Information Services.

Potential rules resulting from comments in the FNPRM, could impose new or additional recordkeeping and reporting requirements for small and other entities, if adopted. Specifically, in the FNPRM, the Commission seeks comment on a number of issues related to the implementation of the ACF. For example, the FNPRM seeks comment on setting a minimum goal of deployment of 5G-NR 7/1 Mbps for all mobile providers participating in ACF Mobile Phase II, as well as whether any exemptions should be made for certain areas. Under the competitive mechanism, providers seeking to participate would submit proposals including coverage maps for the areas where more than one provider currently receives support, as well as the surrounding community where no provider or only a single provider may currently offer service. The coverage map would comply with BDC mobile coverage data requirements and would predict 5G-NR coverage in an outdoor stationary environment. An ETC may propose to cover a tract with 5G-NR 7/1 Mbps service or 5G-NR 35/3 Mbps service, but separate coverage maps must be submitted for each proposed service. For the alternative mechanism, the Commission seeks comment on whether to set a minimum goal of deployment for support under ACF Mobile Phase II of 5G-NR 7/1 Mbps measured in an outdoor stationary environment.

The RFA requires an agency to describe any significant alternatives that could minimize impacts to small entities that it has considered in reaching its proposed approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

The FNPRM also takes the step of outlining an alternative mechanism that would allow a provider to retain its funding if it provides comparable service in a nonduplicate-support area, as well as consider alternative approaches from small and other entities on how best to achieve an outcome that dovetails both the Commission's policy goals and the minimization of substantial economic impact to small entities.

III. Ordering Clauses

It is further ordered that, pursuant to the authority contained in sections 4(i), 201, 205, 214, 254, 303(r), and 403 of the Communications Act of 1934, as amended, 47 U.S.C. 154(i), 201, 205, 214, 254, 303(r), 403, and §§ 1.1 and 1.421 of the Commission's rules, 47 CFR 1.1, 1.421, the FNPRM is adopted. The FNPRM will be effective upon publication in the Federal Register, with comment dates indicated therein.

Federal Communications Commission.
Marlene Dortch,
Secretary, Office of the Secretary.

[FR Doc. 2024-28170 Filed 12-3-24; 8:45 am]

BILLING CODE 6712-01-P